DEPARTMENT OF LABOR

Occupational Safety and Health Administration

[Docket No. NRTL-3-92]

TUV Rheinland of North America, Inc., Expansion of Recognition

AGENCY: Occupational Safety and Health Administration (OSHA), Labor.

ACTION: Notice.

SUMMARY: This notice announces the Agency's final decision on the application of TUV Rheinland of North America, Inc., (TUV) for expansion of its recognition as a Nationally Recognized Testing Laboratory (NRTL) under 29 CFR 1910.7. Four standards are granted interim approval subject to review.

EFFECTIVE DATE: This recognition becomes effective on June 28, 2000. And, unless modified in accordance with 29 CFR 1910.7, continues in effect while TUV remains recognized by OSHA as an NRTL.

FOR FURTHER INFORMATION CONTACT: Bernard Pasquet, Office of Technical Programs and Coordination Activities, NRTL Program, Occupational Safety and Health Administration, U.S. Department of Labor, 200 Constitution Avenue, NW, Room N3653, Washington, DC 20210, or phone (202) 693-2110.

SUPPLEMENTARY INFORMATION:

Notice of Final Decision

The Occupational Safety and Health Administration (OSHA) hereby gives notice of the expansion of recognition of TUV Rheinland of North America, Inc., (TUV) , as a Nationally Recognized Testing Laboratory (NRTL). TUV's expansion request covers the use of the additional test standards listed below.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of its final decision on an application.

TUV submitted a request, dated May 5, 1999 (see Exhibit 19A), to expand its recognition as an NRTL for 139 additional test standards. TUV also submitted information in support of its request with a letter, dated July 6, 1999 (see Exhibit 19B). In this submission, TUV also requested recognition for an additional 5 standards, bringing the total requested for the expansion to 144. The NRTL Program staff determined that 29 of the 144 standards were not “appropriate test standards,” within the meaning of 29 CFR 1910.7(c). The staff makes such determinations in processing expansion requests from any NRTL. Therefore, OSHA approved 115 test standards for the expansion. The staff temporarily withheld its consideration of TUV's expansion request due to findings noted during a review of TUV's site. TUV has provided documentation to OSHA to resolve the issues raised by the review. Although the NRTL Program staff has accepted the NRTL's resolution, we include a condition below related to this resolution. We also include a condition related to the documentation TUV submitted in support of its expansion request.

OSHA published the required notice in the Federal Register (65 FR 11345, 03/02/2000) to announce the TUV expansion request. The notice included a preliminary finding that TUV could meet the requirements for expansion of its recognition, subject to certain conditions, and OSHA invited public comment on the application by May 1, 2000. OSHA received no comments concerning this application.

The preliminary notice listed 119 test standards, four of which TUV had not requested and OSHA had not approved for TUV: UL 443, UL 444, UL 448, and UL 452. We exclude these standards from this final notice. However, as explained below, we include four other test standards in the list, bringing the total number of standards approved for the expansion to 119.

In processing TUV's request, OSHA performed an on-site assessment (review) of TUV's facility in Newtown, Connecticut, on July 12-14, 1999. In the final report of the on-site review (see Exhibit 20), the assessor recommended the expansion for the additional test standards.

The most recent notices published by OSHA for the TUV recognition covered an expansion of recognition, which OSHA announced on January 8, 1998 (63 FR 1127) and granted on April 2, 1998 (63 FR 16280).

You may obtain or review copies of all public documents pertaining to the application by contacting the Docket Office, Occupational Safety and Health Administration, U.S. Department of Labor, 200 Constitution Avenue, NW, Room N2625, Washington, D.C. 20210, telephone: (202) 693-2350. You should refer to Docket No. NRTL-3-92, the permanent records of public information on the TUV recognition.

The current address of the TUV facility (site) recognized by OSHA is: TUV Rheinland of North America, Inc., 12 Commerce Road, Newtown, Connecticut 06470.

Interim Approval Subject To Review

Some of the standards requested by TUV were not “appropriate” because the standards developing organization (SDO) had withdrawn the standard. Under our procedures for the NRTL Program, when an SDO withdraws a test standard, an NRTL may request recognition for a comparable standard, and OSHA will note the substitution if it determines the standard is appropriate and comparable. However, through no fault of TUV, it made such a request after publication of the preliminary notice (see Exh. 19C). OSHA has included in the list below UL 2157, UL 2158, and UL 3121-1, as replacement for UL 1092, UL 560, UL 1555, and UL 1556, all of which TUV included in its original request of May 5. Also, in its May 5 request, TUV had applied for “UL 335-1 General Appliances, IEC based,” which the NRTL staff did not find listed in UL's on-line catalog of standards. Therefore, the staff excluded this standard from the preliminary notice. After the publication of the notice, the staff learned that TUV had intended to apply for UL 60335-1 Safety of Household and Similar Electrical Appliances, Part 1; General Requirements. OSHA would have included this standard in the preliminary notice if the staff had known and reviewed the correct standard. OSHA is expanding the recognition of TUV to include the above four standards, which require the same type of capabilities as many other test standards approved for the expansion. However, since these standards were not included in the preliminary notice, the Agency will provide interested parties an opportunity to comment. Comments submitted by interested parties must be received no later than August 28, 2000. If we receive comments, OSHA will determine whether additional procedures are necessary.

Additional Conditions

TUV has demonstrated its general capability for testing to the above standards. The testing capabilities required under these standards are very similar to those standards for which it is already recognized. TUV has general “procedures” that it can adapt for each specific test standard covered by this notice, and it will develop more specific testing procedures for each test standard. However, it must have these procedures in-place before it can undertake any testing, and therefore before any certification, of products covered by the particular test standard. If these procedures are not in place, TUV would not meet the requirements for continued recognition of the particular test standard(s). As a result, OSHA recognizes TUV for the additional standards listed above subject to a later assessment of the relevant documentation and procedures for testing to these standards. During future on-site visits of the NRTL, the NRTL Program staff would audit for compliance to the condition. The Agency would commence the process to revoke recognition for any test standards for which TUV does not properly meet the condition.

As mentioned above, TUV submitted documentation to OSHA to resolve certain findings noted during a review of TUV's site. The NRTL Program staff withheld its consideration of TUV's expansion request until the NRTL submitted its resolution. Although the staff has accepted the resolution, it will take some time to implement. However, since the staff believes that TUV will make full implementation, OSHA has decided to proceed with the expansion but includes a condition to comply with our approval procedures. The condition provides the Agency with added assurance that TUV will properly implement its resolution. The Agency does not reveal the specific findings of its on-site reviews because they often contain specific details that may be confidential or privileged to the NRTL. For purposes of this notice, OSHA proposes the condition in terms that the Agency believes are fair to the NRTL and provide appropriate information to the public.

Therefore, OSHA includes appropriate conditions below to address these matters. These conditions apply solely to the TUV operations as an NRTL and solely to those products that it certifies for purposes of enabling employers to meet OSHA product approval requirements. The conditions are in addition to the other conditions listed below, which OSHA normally imposes in its recognition of an organization as an NRTL. The NRTL Program staff includes these types of additional conditions on OSHA's informational web page for the NRTL. When the staff determines that a particular condition has been satisfied, not only for TUV but for any NRTL, they will remove the condition from the web page and notify the NRTL accordingly. OSHA has no requirement to publish a public notice to remove conditions it imposes as part of its NRTL recognition activities.

Final Decision and Order

The NRTL Program staff has examined the application, the on-site review report, and other pertinent information. Based upon this examination and the staff's recommendation, OSHA finds that TUV Rheinland of North America, Inc., has met the requirements of 29 CFR 1910.7 for expansion of its recognition to include the additional test standards, listed below, subject to the limitations and conditions listed below. Pursuant to the authority in 29 CFR 1910.7, OSHA hereby expands the recognition of TUV, subject to these limitations and conditions.

Limitations

OSHA hereby expands the recognition of TUV for testing and certification of products to demonstrate conformance to the 119 additional test standards listed below. OSHA has determined that each test standard meets the requirements for an appropriate test standard, within the meaning of 29 CFR 1910.7(c).

The Agency's recognition of TUV, or any NRTL, for a particular test standard is always limited to equipment or materials (products) for which OSHA standards require third party testing and certification before use in the workplace. As a result, OSHA's recognition of an NRTL for a test standard excludes any product(s), falling within the scope of the test standard, for which OSHA has no such requirements.

UL 22 Amusement and Gaming Machines

UL 48 Electric Signs

UL 67 Panelboards

UL 73 Motor-Operated Appliances

UL 82 Electric Gardening Appliances

UL 122 Photographic Equipment

UL 130 Electric Heating Pads

UL 136 Pressure Cookers

UL 141 Garment Finishing Appliances

UL 153 Portable Electric Lamps

UL 174 Household Electric Storage Tank Water Heaters

UL 197 Commercial Electric Cooking Appliances

UL 250 Household Refrigerators and Freezers

UL 298 Portable Electric Hand Lamps

UL 430 Waste Disposers

UL 469 Musical Instruments and Accessories

UL 471 Commercial Refrigerators and Freezers

UL 474 Dehumidifiers

UL 482 Portable Sun/Heat Lamps

UL 499 Electric Heating Appliances

UL 506 Specialty Transformers

UL 507 Electric Fans

UL 508 Industrial Control Equipment

UL 508C Power Conversion Equipment

UL 541 Refrigerated Vending Machines

UL 561 Floor Finishing Machines

UL 583 Electric-Battery-Powered Industrial Trucks

UL 621 Ice Cream Makers

UL 696 Electric Toys

UL 697 Toy Transformers

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 749 Household Dishwashers

UL 751 Vending Machines

UL 763 Motor-Operated Commercial Food Preparing Machines

UL 775 Graphic Arts Equipment

UL 778 Motor Operated Water Pumps

UL 826 Household Electric Clocks

UL 858 Household Electric Ranges

UL 859 Household Electric Personal Grooming Appliance

UL 867 Electrostatic Air Cleaners

UL 875 Electric Dry Bath Heaters

UL 921 Commercial Electric Dishwashers

UL 923 Microwave Cooking Appliances

UL 935 Fluorescent-Lamp Ballasts

UL 961 Electric Hobby and Sports Equipment

UL 982 Motor-Operated Household Food Preparing Machines

UL 984 Hermetic Refrigerant Motor-Compressors

UL 987 Stationary and Fixed Electric Tools

UL 1004 Electric Motors

UL 1005 Electric Flatirons

UL 1012 Power Units Other than Class Two

UL 1017 Vacuum Cleaning Machines and Blower Cleaners

UL 1018 Electric Aquarium Equipment

UL 1026 Electric Household Cooking and Food-Serving Appliances

UL 1028 Hair Clipping and Shaving Appliances

UL 1042 Electric Baseboard Heating Equipment

UL 1081 Swimming Pool Pumps, Filters and Chlorinators

UL 1082 Household Electric Coffee Makers and Brewing-Type Appliances

UL 1083 Household Electric Skillets and Frying-Type Appliances

UL 1230 Amateur Movie Lights

UL 1236 Battery Chargers for Charging Engine-Starter Batteries

UL 1240 Electric Commercial Clothes-Drying Equipment

UL 1278 Movable and Wall- or Ceiling-Hung Electric Room Heaters

UL 1310 Class 2 Power Units

UL 1409 Low-Voltage Video Products Without Cathode-Ray-Tube Displays

UL 1411 Transformers and Motor Transformers for Use In Audio-, Radio-, and Television-Type Appliances

UL 1418 Implosion-Protected Cathode-Ray Tubes for Television-Type Appliances

UL 1419 Professional Video and Audio Equipment

UL 1431 Personal Hygiene and Health Care Appliances

UL 1445 Electric Water Bed Heaters

UL 1459 Telephone Equipment

UL 1559 Insect-Control Equipment, Electrocution Type

UL 1561 Dry Type General Purpose and Power Transformers

UL 1563 Electric Spas, Equipment Assemblies, and Associated Equipment

UL 1564 Industrial Battery Chargers

UL 1570 Fluorescent Lighting Fixtures

UL 1571 Incandescent Lighting Fixtures

UL 1572 High Intensity Discharge Lighting Fixtures

UL 1573 Stage and Studio Lighting Units

UL 1574 Track Lighting Systems

UL 1585 Class 2 and Class 3 Transformers

UL 1594 Sewing and Cutting Machines

UL 1647 Motor-Operated Massage and Exercise Machines

UL 1693 Electric Radiant Heating Panels and Heating Panel Sets

UL 1727 Commercial Electric Personal Grooming Appliances

UL 1776 High-Pressure Cleaning Machines

UL 1786 Nightlights

UL 1795 Hydromassage Bathtubs

UL 1838 Low Voltage Landscape Lighting Systems

UL 1995 Heating and Cooling Equipment

UL 2021 Fixed and Location-Dedicated Electric Room Heaters

UL 2157 Electric Clothes Washing Machines and Extractors

UL 2158 Electric Clothes Dryers

UL 3121-1 Process Control Equipment

UL 60335-1 Safety of Household and Similar Electrical Appliances, Part 1; General Requirements

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-8 Automatic Electrical Controls for Household and Similar Use; Part 2: Particular Requirements for Electrically Operated Water Valves

Many of the standards listed above are approved as American National Standards by the American National Standards Institute (ANSI). However, for convenience, the above list shows the designation of the standard developing organization (e.g., UL 22) for the standard, as opposed to the ANSI designation (e.g., ANSI/UL 22). Under our procedures, an NRTL that is approved for a particular test standard may use either the latest proprietary version of the test standard or the latest ANSI version of that standard, regardless of whether it is currently recognized for the proprietary or ANSI version. Contact ANSI or the ANSI web site to find out whether or not a standard is currently ANSI approved.

None of the above standards had been withdrawn by the standards developing organization (SDO) at the time of the preparation of the notice of preliminary finding.

Conditions

TUV Rheinland of North America, Inc., must also abide by the following conditions of the recognition, in addition to those already required by 29 CFR 1910.7:

TUV must have specific written testing procedures in place before testing products covered by any test standard for which it is recognized and must use these procedures in testing and certifying those products;

TUV must restrict the certification and qualification activities that it performs in its capacity as an NRTL only to its Newtown facility. TUV must perform these activities in accordance with OSHA's relevant policies and criteria for these activities and, in accordance with its response, to the applicable on-site review that OSHA has accepted;

OSHA must be allowed access to the TUV facilities and records for purposes of ascertaining continuing compliance with the terms of its recognition and to investigate as OSHA deems necessary;

If TUV has reason to doubt the efficacy of any test standard it is using under this program, it must promptly inform the organization that developed the test standard of this fact and provide that organization with appropriate relevant information upon which its concerns are based;

TUV must not engage in or permit others to engage in any misrepresentation of the scope or conditions of its recognition. As part of this condition, TUV agrees that it will allow no representation that it is either a recognized or an accredited Nationally Recognized Testing Laboratory (NRTL) without clearly indicating the specific equipment or material to which this recognition is tied, or that its recognition is limited to certain products;

TUV must inform OSHA as soon as possible, in writing, of any change of ownership, facilities, or key personnel, and of any major changes in its operations as an NRTL, including details;

TUV will continue to meet all the terms of its recognition and will always comply with all OSHA policies pertaining to this recognition;

TUV will continue to meet the requirements for recognition in all areas where it has been recognized; and

TUV will always cooperate with OSHA to assure compliance with the spirit as well as the letter of its recognition and 29 CFR 1910.7.

Signed at Washington, DC this 20th day of June, 2000.
Charles N. Jeffress,
Assistant Secretary.

[FR Doc. 00-16320 Filed 6-27-00; 8:45 am]

BILLING CODE 4510-26-P